DEPARTMENT OF ENERGY

Federal Energy Regulatory Commission

Combined Notice of Filings #1

Take notice that the Commission received the following electric corporate filings:

Docket Numbers: EC15-36-000.

Applicants: Verso Androscoggin Power LLC.

Description: Application for Approval under Section 203 of the Federal Power Act of Verso Androscoggin Power LLC.

Filed Date: 11/25/14.

Accession Number: 20141125-5397.

Comments Due: 5 p.m. ET 12/16/14.

Take notice that the Commission received the following exempt wholesale generator filings:

Docket Numbers: EG15-18-000.

Applicants: Spinning Spur Wind Three, LLC.

Description: Notice of Self-Certification of Exempt Wholesale Generator Status of Spinning Spur Wind Three, LLC.

Filed Date: 11/26/14.

Accession Number: 20141126-5093.

Comments Due: 5 p.m. ET 12/17/14.

Take notice that the Commission received the following electric rate filings:

Docket Numbers: ER14-2574-003.

Applicants: California Independent System Operator Corporation.

Description: Compliance filing per 35: 2014-11-25_Errata_FRAC-MOO to be effective 11/1/2014.

Filed Date: 11/25/14.

Accession Number: 20141125-5338.

Comments Due: 5 p.m. ET 12/16/14.

Docket Numbers: ER15-15-001.

Applicants: California Independent System Operator Corporation.

Description: Tariff Amendment per 35.17(b): 2014-11-25_DeficiencyResponse_CommitmentCosts to be effective 12/1/2014.

Filed Date: 11/25/14.

Accession Number: 20141125-5313.

Comments Due: 5 p.m. ET 12/5/14.

Docket Numbers: ER15-142-000.

Applicants: Midcontinent Independent System Operator, Inc.

Description: Report Filing: 2014-11-26_Marshall—MRES Attachment O Supplement to be effective N/A.

Filed Date: 11/26/14.

Accession Number: 20141126-5143.

Comments Due: 5 p.m. ET 12/17/14.

Docket Numbers: ER15-359-001.

Applicants: Samchully Power & Utilities 1 LLC.

Description: Tariff Amendment per 35.17(b): Supplement to MBR Application to be effective 12/15/2014.

Filed Date: 11/25/14.

Accession Number: 20141125-5335.

Comments Due: 5 p.m. ET 12/16/14.

Docket Numbers: ER15-482-000.

Applicants: South Carolina Electric & Gas Company.

Description: Compliance filing per 35: Order 676 H Compliance filing to be effective 2/2/2015.

Filed Date: 11/25/14.

Accession Number: 20141125-5285.

Comments Due: 5 p.m. ET 12/16/14.

Docket Numbers: ER15-483-000.

Applicants: New York Independent System Operator, Inc.

Description: § 205(d) rate filing per 35.13(a)(2)(iii): 205 filing MST revision to clarify eligibility for DAMAP and BPCG payments to be effective 1/25/2015.

Filed Date: 11/25/14.

Accession Number: 20141125-5306.

Comments Due: 5 p.m. ET 12/16/14.

Docket Numbers: ER15-484-000.

Applicants: Southwest Power Pool, Inc.

Description: § 205(d) rate filing per 35.13(a)(2)(iii): 1891R3 Westar Energy, Inc. NITSA and NOA to be effective 8/1/2014.

Filed Date: 11/25/14.

Accession Number: 20141125-5312.

Comments Due: 5 p.m. ET 12/16/14.

Docket Numbers: ER15-485-000.

Applicants: New York Independent System Operator, Inc.

Description: § 205(d) rate filing per 35.13(a)(2)(iii): 205 filing re: graduated transmission demand curve—transmission shortage costs to be effective 12/31/9998.

Filed Date: 11/25/14.

Accession Number: 20141125-5334.

Comments Due: 5 p.m. ET 12/16/14.

Docket Numbers: ER15-486-000.

Applicants: Peninsula Power, LLC.

Description: Initial rate filing per 35.12 Peninsula Power,LLC (FERC Electric Tariff) to be effective 1/1/2015.

Filed Date: 11/26/14.

Accession Number: 20141126-5001.

Comments Due: 5 p.m. ET 12/17/14.

Docket Numbers: ER15-487-000; ER15-488-000; ER15-489-000.

Applicants: Peetz Logan Interconnect, LLC, Sagebrush, a California partnership, Sky River LLC.

Description: Request for Waiver of Order No. 676-H Compliance Requirements of Peetz Logan Interconnect, LLC, Sagebrush, a California partnership, and Sky River LLC.

Filed Date: 11/25/14.

Accession Number: 20141125-5383.

Comments Due: 5 p.m. ET 12/16/14.

Docket Numbers: ER15-490-000.

Applicants: Southwest Power Pool, Inc.

Description: § 205(d) rate filing per 35.13(a)(2)(iii): 1892R3 Westar Energy, Inc. NITSA and NOA to be effective 8/1/2014.

Filed Date: 11/26/14.

Accession Number: 20141126-5040.

Comments Due: 5 p.m. ET 12/17/14.

Docket Numbers: ER15-491-000.

Applicants: Southwest Power Pool, Inc.

Description: § 205(d) rate filing per 35.13(a)(2)(iii): 1893R3 Westar Energy, Inc. (Savonburg) NITSA and NOA to be effective 8/1/2014.

Filed Date: 11/26/14.

Accession Number: 20141126-5043.

Comments Due: 5 p.m. ET 12/17/14.

Docket Numbers: ER15-493-000.

Applicants: Duke Energy Conesville, LLC.

Description: § 205(d) rate filing per 35.13(a)(2)(iii): Amendment to Reactive Rate Schedule to be effective 12/1/2014.

Filed Date: 11/26/14.

Accession Number: 20141126-5063.

Comments Due: 5 p.m. ET 12/17/14.

Docket Numbers: ER15-494-000.

Applicants: Duke Energy Dicks Creek, LLC.

Description: § 205(d) rate filing per 35.13(a)(2)(iii): Amendment to Reactive Rate Schedule to be effective 12/1/2014.

Filed Date: 11/26/14.

Accession Number: 20141126-5064.

Comments Due: 5 p.m. ET 12/17/14.

Docket Numbers: ER15-495-000.

Applicants: Duke Energy Killen, LLC.

Description: § 205(d) rate filing per 35.13(a)(2)(iii): Amendment to Reactive Rate Schedule to be effective 12/1/2014.

Filed Date: 11/26/14.

Accession Number: 20141126-5068.

Comments Due: 5 p.m. ET 12/17/14.

Docket Numbers: ER15-496-000.

Applicants: Duke Energy Zimmer, LLC.

Description: § 205(d) rate filing per 35.13(a)(2)(iii): Amendment to Reactive Rate Schedule to be effective 12/1/2014.

Filed Date: 11/26/14.

Accession Number: 20141126-5082.

Comments Due: 5 p.m. ET 12/17/14.

Docket Numbers: ER15-497-000.

Applicants: Duke Energy Ohio, Inc.

Description: Tariff Withdrawal per 35.15: Cancellation of Rate Schedule 66 to be effective 11/30/2014.

Filed Date: 11/26/14.

Accession Number: 20141126-5084.

Comments Due: 5 p.m. ET 12/17/14.

Docket Numbers: ER15-498-000.

Applicants: Duke Energy Miami Fort, LLC.

Description: § 205(d) rate filing per 35.13(a)(2)(iii): Amendment to Reactive Rate Schedule to be effective 12/1/2014.

Filed Date: 11/26/14.

Accession Number: 20141126-5091.

Comments Due: 5 p.m. ET 12/17/14.

Docket Numbers: ER15-499-000.

Applicants: Southern California Edison Company.

Description: § 205(d) rate filing per 35.13(a)(2)(iii): LGIA with Alta Windpower Development, LLC to be effective 1/26/2015.

Filed Date: 11/26/14.

Accession Number: 20141126-5096.

Comments Due: 5 p.m. ET 12/17/14.

Docket Numbers: ER15-500-000.

Applicants: Southwest Power Pool, Inc.

Description: § 205(d) rate filing per 35.13(a)(2)(iii): 1889R3 Westar Energy, Inc. NITSA and NOA to be effective 8/1/2014.

Filed Date: 11/26/14.

Accession Number: 20141126-5139.

Comments Due: 5 p.m. ET 12/17/14.

Docket Numbers: ER15-501-000.

Applicants: Trans Bay Cable LLC.

Description: Compliance filing per 35: Revised Appendix I to the TO tariff to be effective 10/29/2014.

Filed Date: 11/26/14.

Accession Number: 20141126-5145.

Comments Due: 5 p.m. ET 12/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2014.
Nathaniel J. Davis, Sr.,
Deputy Secretary.

[FR Doc. 2014-28465 Filed 12-3-14; 8:45 am]

BILLING CODE 6717-01-P